DEPARTMENT OF THE INTERIOR

Bureau of Land Management

[LLAZ910000.L14300000.ET0000. LXSIURAM0000 241A; AZA 035138]

Notice of Availability of the Draft Northern Arizona Proposed Withdrawal Environmental Impact Statement and Revisions to the Withdrawal Application, Arizona

AGENCY: Bureau of Land Management, Interior.

ACTION: Notice of availability.

SUMMARY: In accordance with the National Environmental Policy Act of 1969, as amended (NEPA), the Bureau of Land Management (BLM) has prepared a Draft Environmental Impact Statement (EIS) for the Northern Arizona Proposed Withdrawal and with this notice is announcing the opening of the comment period.

DATES: To ensure comments will be considered, the BLM must receive written comments on the Northern Arizona Proposed Withdrawal Draft EIS within 45 days following the date the Environmental Protection Agency publishes its Notice of Availability in the Federal Register. The BLM will announce future meetings or hearings and any other public involvement activities at least 15 days in advance through public notices, media releases, and/or mailings.

ADDRESSES: You may submit comments related to the Northern Arizona Proposed Withdrawal Draft EIS by any of the following methods:

• E-mail: NAZproposedwithdrawal@azblm.org.

• Mail: Northern Arizona Proposed Withdrawal Project, ATTN: Scott Florence, District Manager, Bureau of Land Management, Arizona Strip District Office, 345 East Riverside Drive, St. George, Utah 84790-6714.

FOR FURTHER INFORMATION CONTACT: Chris Horyza, Project Manager, telephone 602-417-9446; address Bureau of Land Management, Arizona State Office, One N Central Ave., Suite 800, Phoenix Arizona 85004; e-mail chris_horyza@blm.gov.

SUPPLEMENTARY INFORMATION: On July 21, 2009, the Department of the Interior published notice of the Secretary of the Interior's (Secretary) proposal to withdraw (proposed withdrawal) approximately 1 million acres of National Forest System lands and public lands in northern Arizona from location and entry under the Mining Law of 1872, (30 U.S.C. 22-54) (Mining Law), subject to valid existing rights. The purpose of the withdrawal, if determined to be appropriate, would be to protect the Grand Canyon watershed from adverse effects of locatable hardrock mineral exploration and mining.

Under section 204 of the Federal Land Policy and Management Act (FLPMA), publication of the Federal Register notice of the proposed withdrawal had the effect of segregating the lands involved for up to 2 years from the location and entry of new mining claims, subject to valid existing rights, during which time the BLM will complete an analysis of the proposed withdrawal. The notice temporarily segregated the following described lands:

Gila and Salt River Meridian

Tps. 28 to 31 N., R. 1 E.,

Tps. 40 and 41 N., R. 1 E.,

Tps. 28 to 30 N., R. 2 E.,

Tps. 27 to 30 N., Rs. 3 to 6 E.,

Tps. 37 to 40 N., R. 3 E.,

Tps. 36 and 37 N., Rs. 4 and 5 E.,

T. 38 N., Rs. 3 to 5 E.,

T. 37 N., R. 6 E.,

Tps. 38 and 39 N., R. 6 E.,

Tps. 39 and 40 N., R. 7 E.,

T. 31 N., R. 1 W.,

Tps. 38 to 41 N., R. 1 W.,

Tps. 38 to 40 N., R. 2 W.,

Tps. 36 to 40 N., R. 3 W.,

Tps. 35 to 40 N., Rs. 4 and 5 W.,

Tps. 35 to 39 N., Rs. 6 and 7 W.

For more detailed information, refer to the map dated September 17, 2010, posted on the Internet at http://www.blm.gov/az/st/en/prog/mining/timeout.html. This map is also on file at the Arizona Strip District Office at the address below and can be viewed there upon request.

The Northern Arizona Proposed Withdrawal Draft EIS, now available for public review, has been prepared in accordance with NEPA.

Copies of the Northern Arizona Proposed Withdrawal Draft EIS are available in the BLM Arizona Strip District Office, 345 East Riverside Dr., St. George, Utah 84790.

Copies can also be found at:

BLM Arizona State Office at One N. Central, Suite 800, Phoenix, Arizona 85004;

BLM Phoenix District, 21605 N. 7th Ave., Phoenix, Arizona 85027;

BLM Utah State Office, 440 W. 200 S, Suite 500, Salt Lake City, Utah 84145;

USFS Tonto National Forest, 2324 E. McDowell Rd., Phoenix, Arizona 85006;

USFS Kaibab National Forest, 800 S. 6th St., Williams, Arizona 86046;

USFS Kaibab National Forest, 430 S. Main St., Fredonia, Arizona 86022; and

USFS Coconino National Forest, 1824 S. Thompson St., Flagstaff, Arizona 86001.

In addition, the EIS can be viewed at libraries in the following locations:

Wiliams Public Library, 113 1st Street, Williams, Arizona 86046; and

Fredonia Public Library, 118 N. Main St., Fredonia, Arizona 86022.

You may also access the document on the Internet at:

http://www.blm.gov/az/st/en/prog/mining/timeout.html

The Proposed Action analyzed in the Draft EIS is the withdrawal of 1,010,776 acres near Grand Canyon National Park from location and entry under the Mining Law for a period of 20 years, subject to valid existing rights. The lands included in the proposed action include those managed by the BLM and managed by the U.S. Forest Service and are located within portions of the Grand Canyon watershed. These lands contain significant environmental and cultural resources, including the nearby iconic Grand Canyon National Park, as well as substantial uranium deposits. The importance of the management of these resources has generated much public and Congressional interest. Public scoping for this project began on August 26, 2009 (74 FR 43152-43153), with publication of a Notice of Intent in the Federal Register, and closed on October 30, 2009. During that time 83,525 comment letters were received. Important issues identified during scoping include:

• Change in geologic conditions and availability of uranium resources;

• Dewatering of perched aquifers and changes in water availability in deep

aquifers;

• Contamination of both ground and surface water;

• Effects to endangered, threatened, and special status plants and animal

species;

• Visual intrusions to Grand Canyon National Park visitors;

• Noise disruptions to Grand Canyon National Park visitors;

• Effects to cultural resources and Traditional Cultural Properties;

• Potential public health effects due to exposure to uranium; and

• Effects to the local, regional, or national economy.

The Draft EIS considers these issues in its analysis of four alternatives. Alternative A is the No Action Alternative, under which no lands would be withdrawn and mineral exploration and mining would continue throughout the proposed withdrawal area in accordance with existing regulations and land use plans. Alternative B, which is the Proposed Action, is a Secretarial withdrawal for 20 years, subject to valid existing rights, of approximately 1,010,776 acres in three parcels from location and entry under the Mining Law, but not the mineral leasing, geothermal leasing, mineral materials, or public land laws. Two of the three parcels are north of the Grand Canyon National Park on BLM-managed Arizona Strip lands and the North Kaibab Ranger District of the Kaibab National Forest, and the remaining parcel is south of the Grand Canyon on the Tusayan Ranger District of the Kaibab National Forest. Alternative C is a Secretarial withdrawal of approximately 652,986 acres from the Mining Law for 20 years, subject to valid existing rights. This alternative would withdraw the largest contiguous area identified on resource location maps with concentrations of cultural, hydrologic, recreational, visual, and biological resources which could be adversely affected by additional locatable mineral exploration and mining. Alternative D is a Secretarial withdrawal of 300,681 acres from the Mining Law for 20 years, subject to valid existing rights. This alternative would withdraw the contiguous area identified on resource location maps where there is the highest concentration of overlapping cultural, hydrologic, recreational, visual, and biological resources, which could be adversely affected by additional locatable mineral exploration and mining.

The Draft EIS analyzes the potential effects of the alternatives on resources within, and in the vicinity of, the potential withdrawal areas as well as within, and in the vicinity of, the Grand Canyon National Park. Analyses have been conducted for potential effects to air quality, geology and minerals, ground and surface water resources, soil resources, vegetation resources, fish and wildlife in general, special status plant and animal species including those listed as threatened or endangered, visual resources, soundscapes, cultural resources, American Indian resources, wilderness, recreation, social, and economic conditions.

Thirteen agencies and two American Indian Tribes have entered into Cooperating Agency agreements with the BLM, including the U.S. Forest Service, Kaibab National Forest; the National Park Service, Grand Canyon National Park; the U.S. Fish and Wildlife Service; the U.S. Geological Survey; the Arizona Game and Fish Department; the Arizona Geological Survey; the Arizona Department of Mines and Mineral Resources; the Arizona State Lands Department; the Hualapai Tribe; the Kaibab Band of Paiute Indians; Coconino County, Arizona; Mohave County, Arizona; Kane County, Utah; San Juan County, Utah; and Washington County, Utah.

Please note that public comments and information submitted, including names, street addresses, and e-mail addresses of persons who submit comments, will be available for public review and disclosure at the Arizona Strip District Office address given above during regular business hours (7:30 a.m. to 4 p.m.), Monday through Friday, except holidays.

Before including your address, phone number, e-mail address, or other personal identifying information in your comment, you should be aware that your entire comment—including your personal identifying information—may be made publicly available at any time. While you can ask us in your comment to withhold your personal identifying information from public review, we cannot guarantee that we will be able to do so.

Authority: 40 CFR 1506.6 and 1506.10.

James G. Kenna,
Arizona State Director.

[FR Doc. 2011-3714 Filed 2-17-11; 8:45 am]

BILLING CODE 4310-32-P